Proclamation 8835 of June 1, 2012

National Caribbean-American Heritage Month, 2012

By the President of the United States of America

A Proclamation

Individuals and families from Caribbean countries have journeyed to America's shores for centuries. Some were brought here against their will in the bonds of slavery. Some immigrated to America as children, clutching a parent's hand. Others came as adults, leaving behind everything they knew in pursuit of a better life in a new world. Generations of Caribbean Americans have sought to ensure their children and grandchildren would have the freedom to make of their lives what they will, and during National Caribbean-American Heritage Month, we celebrate their rich narratives and recognize their immeasurable contributions to our country.

Caribbean Americans have shaped every aspect of our society—enhancing our arts and humanities as titans of music and literature, spurring our economy as intrepid entrepreneurs, making new discoveries as scientists and engineers, serving as staunch advocates for social and political change, and defending our ideals at home and abroad as leaders in our military. Their achievements exemplify the tenacity and perseverance embedded in our national character, and their stories embody the fundamental American idea that when access to opportunity is equal, anyone can make it if they try.

As we reflect on the myriad ways Caribbean Americans have shaped our country, we join in commemorating the 50th anniversaries of independence in Jamaica and Trinidad and Tobago, and we reaffirm the bonds of friendship we share with our Caribbean neighbors. This month, let us celebrate the essence of the Nation we all love—an America where so many of our ancestors have come from somewhere else; a society that has been enriched by cultures from around the world.

NOW, THEREFORE, I, BARACK OBAMA, President of the United States of America, by virtue of the authority vested in me by the Constitution and the laws of the United States, do hereby proclaim June 2012 as National Caribbean-American Heritage Month. I encourage all Americans to celebrate the history and culture of Caribbean Americans with appropriate ceremonies and activities.

IN WITNESS WHEREOF, I have hereunto set my hand this first day of June, in the year of our Lord two thousand twelve, and of the Independence of the United States of America the two hundred and thirty-sixth.

[FR Doc. 2012-13950

Filed 6-6-12; 8:45 am]

Billing code 3295-F2-P